DEPARTMENT OF THE TREASURY

Office of Thrift Supervision

Submission for OMB Review; Comment Request

January 30, 2001.

The Office of Thrift Supervision (OTS) has submitted the following public information collection requirement(s) to OMB for review and clearance under the Paperwork Reduction Act of 1995, Public Law 104-13. Interested persons may obtain copies of the submission(s) by calling the OTS Clearance Officer listed. Send comments regarding this information collection to the OMB reviewer listed and to the OTS Clearance Officer, Office of Thrift Supervision, 1700 G Street, NW., Washington, DC 20552.

DATES: Submit written comments on or before March 7, 2001.

OMB Number: 1550-0035.

Form Number: SEC Forms S-4, S-8, SB-1, SB-2 and OTS Forms PS, OC and G-12.

Type of Review: Regular.

Title: Securities Offerings Disclosure.

Description: OTS collects information for disclosure in securities offerings by savings associations related directly to U.S. Securities and Exchange Commission requirements for offering of information to potential securities purchasers.

Respondents: Savings and Loan Associations and Savings Banks.

Estimated Number of Responses: 38.

Estimated Burden Hours Per Response: 379 hours.

Frequency of Response: Once per filing.

Estimated Total Reporting Burden: 14,402 hours.

Clearance Officer: Ralph E. Maxwell, (202) 906-7740, Office of Thrift Supervision, 1700 Street, NW., Washington, DC 20552.

OMB Reviewer: Alexander Hunt, (202) 395-7860, Office of Management and Budget, Room 10202, New Executive Office Building, Washington, DC 20503.

John E. Werner,
Director, Information & Management Services.

[FR Doc. 01-2918 Filed 2-2-01; 8:45 am]

BILLING CODE 6720-01-P